DEPARTMENT OF DEFENSE

Office of the Secretary

[Docket ID: DoD-2025-OS-0375]

Submission for OMB Review; Comment Request

AGENCY: Office of the Under Secretary of Defense for Acquisition and Sustainment (USD(A&S)), Department of Defense (DoD).

ACTION: 30-Day information collection notice.

SUMMARY: The DoD has submitted to the Office of Management and Budget (OMB) for clearance the following proposal for collection of information under the provisions of the Paperwork Reduction Act.

DATES: Consideration will be given to all comments received by December 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: DLA Energy Request for Customer QR Code; DLA Energy Form 2063; OMB Control Number 0704-0640.

Type of Request: Reinstatement.

Number of Respondents: 2,782.

Responses per Respondent: 1.

Annual Responses: 2,782.

Average Burden per Response: 1 hour.

Annual Burden Hours: 2,782.

Needs and Uses: Entities with a fuel purchase agreement with DLA Energy, including DoD, Federal Agencies, Federal Contractors, and Non-U.S. Government Entities, can request a Customer Quick Response (QR) code to purchase petroleum and aerospace products from DLA Energy via the DLA Form 2063, “DLA Energy Request for Customer QR Code.” DoD Manual 4140.25, “DoD Management of Energy Commodities: Sales Accountability and Documentation Management,” authorizes customers to use several forms of Authorized Purchase Source Media to buy fuel from DLA Energy. One of these methods is via Customer QR codes. DLA Energy Publication P-29, “EPoS Customer QR Codes,” implements policy, assigns responsibilities, and provides procedures for managing Customer QR codes.

Affected Public: Business or other for-profit.

Frequency: On occasion.

Respondent's Obligation: Voluntary.

DoD Clearance Officer: Mr. Reginald Lucas.

Dated: November 6, 2025.
Aaron T. Siegel,
Alternate OSD Federal Register Liaison Officer, Department of Defense.

[FR Doc. 2025-19833 Filed 11-7-25; 8:45 am]

BILLING CODE 6001-FR-P